DEPARTMENT OF EDUCATION

[Docket No.: ED-2023-SCC-0066]

Agency Information Collection Activities; Submission to the Office of Management and Budget for Review and Approval; Comment Request; RSA-509, Annual Protection and Advocacy of Individual Rights Program Performance Report

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before July 26, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Samuel Pierre, 202-245-6488.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: RSA-509, Annual Protection and Advocacy of Individual Rights Program Performance Report.

OMB Control Number: 1820-0627.

Type of Review: A revision of a currently approved ICR.

Respondents/Affected Public: State, local, and Tribal Governments.

Total Estimated Number of Annual Responses: 57.

Total Estimated Number of Annual Burden Hours: 912.

Abstract: The Annual Protection and Advocacy of Individual Rights (PAIR) Program Performance Report (Form RSA-509) will be used to analyze and evaluate the PAIR Program administered by eligible protection and advocacy (P&A) systems in states and the P&A serving the American Indian Consortium. These systems provide services to eligible individuals with disabilities to protect their legal and human rights. RSA uses the form to meet specific data collection requirements of section 509(k) of the Rehabilitation Act of 1973 (Rehabilitation Act), as amended by title IV of the Workforce Innovation and Opportunity Act (WIOA), 29 U.S.C. 794e(k), and its implementing Federal regulations at 34 CFR 381.32. The data reported by PAIR grantees using the form include demographic information about the individuals served, information describing the types of issues addressed through individual and systemic advocacy, and information about the results of these activities. PAIR grantees must report annually using the form that is due on or before December 30 each year.

The collection of information through Form RSA-509 is necessary for RSA to furnish the President and Congress with data on the provision of PAIR services, as required by sections 13(a) and 509(k) of the Rehabilitation Act. Data reported by PAIR grantees through the RSA-509 have also helped RSA to establish a sound basis for future funding requests. RSA also uses data from the form to evaluate the effectiveness of eligible systems within individual States and the PAIR serving the American Indian Consortium in meeting annual priorities and objectives, pursuant to section 13(b) of the Rehabilitation Act. Last, RSA has found the RSA-509 data useful in projecting trends in the provision of services from year to year.

Several respondents are private not-for-profit organizations. RSA included the respondents and the national organization that represents them (National Disability Rights Network (NDRN)) in the initial development of this collection of information in an effort to ensure that the information requested could be provided with minimal burden to the respondents.

Dated: June 21, 2023.
Juliana Pearson,
PRA Coordinator, Strategic Collections and Clearance, Governance and Strategy Division, Office of Chief Data Officer, Office of Planning, Evaluation and Policy Development.

[FR Doc. 2023-13504 Filed 6-23-23; 8:45 am]

BILLING CODE 4000-01-P